NATIONAL TRANSPORTATION SAFETY BOARD

Sunshine Act Meeting

Time and Date: 9:30 a.m., Tuesday, July 11, 2000.

Place: NTSB Board Room, 429 L'Enfant Plaza, SW., Washington, DC. 20594.

Status: Open to the public.

Matters to be Considered:

6837A—

Safety Recommendations related to Fires on board the passenger ships Universe Explorer on July 27, 1996 and Vistafjord on April 6, 1997.

7178A—Pipeline Accident Report: Natural Gas Pipeline Rupture and Subsequent Explosion in St. Cloud, Minnesota, December 11, 1998.

7271—Railroad Accident Report: Derailment of Burlington Northern Santa Fe Freight Train S-CHILAC-1-31 and Hazardous Material Release near Crisfield, Kansas, September 2, 1998.

FOR FURTHER INFORMATION CONTACT: Rhonda Underwood (202) 314-6065. Individuals requesting specific accommodation should contact Mrs. Barbara Bush at (202) 314-6220 by Friday, July 7, 2000.

Dated: June 30, 2000.
Rhonda Underwood,
Federal Register Liaison Officer.

[FR Doc. 00-17124 Filed 6-30-00; 3:26 pm]

BILLING CODE 7533-01-M